DEPARTMENT OF ENERGY

Federal Energy Regulatory Commission

[Docket No. RP03-235-001]

Northern Natural Gas Company; Notice of Compliance Filing

March 12, 2003.

Take notice that on March 5, 2003, Northern Natural Gas Company (Northern), tendered for filing in its FERC Gas Tariff, Fifth Revised Volume No. 1, the following tariff sheets, with an effective date of February 13, 2003:

1st Rev. 9th Revised Sheet No. 201

Substitute Second Revised Sheet No. 233

Substitute Fifth Revised Sheet No. 264

Original Sheet No. 308

Sheet No. 309

Substitute Third Revised Sheet No.400

Substitute Second Revised Sheet No. 402

Substitute First Revised Sheet No. 403

Substitute Fourth Revised Sheet No. 431

Substitute Fourth Revised Sheet No. 441

Substitute Fourth Revised Sheet No. 446

Northern states that the filing is being made in compliance with the Commission's order issued on February 12, 2003, in Docket No. RP03-235-000 (Order):

Northern further states that copies of the filing have been mailed to each of its customers and interested State Commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 17, 2003.

Magalie R. Salas,
Secretary.

[FR Doc. 03-6531 Filed 3-18-03; 8:45 am]

BILLING CODE 6717-01-P